COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete products and services previously furnished by such agencies.

Comments Must Be Received on or Before: April 15, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product and service will be required to procure the products and services listed below from nonprofit agencies employing persons who are blind or have other severe disabilities.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-ODay Act (41 U.S.C.46-48c) in connection with the products and services proposed for addition to the Procurement List. Comments on this certification are invited. Commenters should identify the statement(s) underlying the certification on which they are providing additional information.

The following products and services are proposed for addition to Procurement List for production by the nonprofit agencies listed:

Products

Product/NSN: Holder, Key and Credit Card/7510-01-445-9348.

NPA: The Travis Association for the Blind, Austin, Texas.

Contract Activity: Office Supplies & Paper Products Commodity Center, New York, New York.

Product/NSN: Holder, Key and Credit Card/7510-01-NIB-0613.

NPA: The Travis Association for the Blind, Austin, Texas.

Contract Activity: Office Supplies & Paper Products Commodity Center, New York, New York.

Services

Service Type/Location: Janitorial/Custodial/Alton Federal Building, Alton, Illinois.

NPA: Challenge Unlimited, Inc., Alton, Illinois.

Contract Activity: GSA, Public Buildings Service.

Service Type/Location: Janitorial/Grounds Maintenance/Ed Jones Federal Building & U.S. Courthouse, Jackson, Tennessee.

NPA: Madison Haywood Developmental Services, Jackson, Tennessee.

Contract Activity: GSA, Public Buildings Service.

Service Type/Location: Janitorial/Grounds Maintenance/Federal Building & U.S. Post Office, Dyersburg, Tennessee.

NPA: Madison Haywood Developmental Services, Jackson, TN.

Contract Activity: GSA, Public Buildings Service.

Deletions

I certify that the following action will not have a significant impact on a substantial number of small entities. The major factors considered for this certification were:

1. The action will not result in any additional reporting, recordkeeping or other compliance requirements for small entities other than the small organizations that will furnish the products and services to the Government.

2. There are no known regulatory alternatives which would accomplish the objectives of the Javits-Wagner-ODay Act (41 U.S.C.46-48c) in connection with the products and services proposed for deletion from the Procurement List.

The following products and services are proposed for deletion from the Procurement List:

Products

Product/NSN: Hood, Sleeping Bag/8465-00-518-2769.

NPA: North Bay Rehabilitation Services, Inc., Rohnert Park, California.

Contract Activity: Defense Supply Center—Philadelphia, Philadelphia, PA.

Product/NSN: Stamp, Rubber/7520-00-NSH-0001.

Product/NSN: Stamp, Rubber/7520-00-NSH-0002.

Product/NSN: Stamp, Rubber/7520-00-NSH-0003.

Product/NSN: Stamp, Rubber/7520-00-NSH-0004.

Product/NSN: Stamp, Rubber/7520-00-NSH-0005.

Product/NSN: Stamp, Rubber/7520-00-NSH-0006.

Product/NSN: Stamp, Rubber/7520-00-NSH-0007.

Product/NSN: Stamp, Rubber/7520-00-NSH-0008.

Product/NSN: Stamp, Rubber/7520-00-NSH-0009.

Product/NSN: Stamp, Rubber/7520-00-NSH-0010.

Product/NSN: Stamp, Rubber/7520-00-NSH-0011.

Product/NSN: Stamp, Rubber/7520-00-NSH-0012.

Product/NSN: Stamp, Rubber/7520-00-NSH-0013.

Product/NSN: Stamp, Rubber/7520-00-NSH-0014.

Product/NSN: Stamp, Rubber/7520-00-NSH-0015.

Product/NSN: Stamp, Rubber/7520-00-NSH-0016.

Product/NSN: Stamp, Rubber/7520-00-NSH-0017.

Product/NSN: Stamp, Rubber/7520-00-NSH-0018.

Product/NSN: Stamp, Rubber/7520-00-NSH-0019.

Product/NSN: Stamp, Rubber/7520-00-NSH-0020.

Product/NSN: Stamp, Rubber/7520-00-NSH-0021.

Product/NSN: Stamp, Rubber/7520-00-NSH-0022.

Product/NSN: Stamp, Rubber/7520-00-NSH-0023.

Product/NSN: Stamp, Rubber/7520-00-NSH-0024.

Product/NSN: Stamp, Rubber/7520-00-NSH-0025.

Product/NSN: Stamp, Rubber/7520-00-NSH-0026.

Product/NSN: Stamp, Rubber/7520-00-NSH-0027.

Product/NSN: Stamp, Rubber/7520-00-NSH-0028.

Product/NSN: Stamp, Rubber/7520-00-NSH-0029.

Product/NSN: Stamp, Rubber/7520-00-NSH-0030.

Product/NSN: Stamp, Rubber/7520-00-NSH-0031.

Product/NSN: Stamp, Rubber/7520-00-NSH-0032.

Product/NSN: Stamp, Rubber/7520-00-NSH-0033.

Product/NSN: Stamp, Rubber/7520-00-NSH-0034.

Product/NSN: Stamp, Rubber/7520-00-NSH-0035.

Product/NSN: Stamp, Rubber/7520-00-NSH-0036.

Product/NSN: Stamp, Rubber/7520-00-NSH-0037.

Product/NSN: Stamp, Rubber/7520-00-NSH-0038.

NPA: PRIDE Industries, Roseville, California.

Contract Activity: McClellan Air Force Base, California.

Product/NSN: Stamp, Rubber/7520-00-NSH-0045.

Product/NSN: Stamp, Rubber/7520-00-NSH-0046.

Product/NSN: Stamp, Rubber/7520-00-NSH-0047.

Product/NSN: Stamp, Rubber/7520-00-NSH-0048.

Product/NSN: Stamp, Rubber/7520-00-NSH-0049.

Product/NSN: Stamp, Rubber/7520-00-NSH-0050.

Product/NSN: Stamp, Rubber/7520-00-NSH-0051.

Product/NSN: Stamp, Rubber/7520-00-NSH-0052.

Product/NSN: Stamp, Rubber/7520-00-NSH-0053.

Product/NSN: Stamp, Rubber/7520-00-NSH-0054.

Product/NSN: Stamp, Rubber/7520-00-NSH-0055.

Product/NSN: Stamp, Rubber/7520-00-NSH-0056.

Product/NSN: Stamp, Rubber/7520-00-NSH-0057.

Product/NSN: Stamp, Rubber/7520-00-NSH-0058.

Product/NSN: Stamp, Rubber/7520-00-NSH-0059.

Product/NSN: Stamp, Rubber/7520-00-NSH-0060.

Product/NSN: Stamp, Rubber/7520-00-NSH-0061.

Product/NSN: Stamp, Rubber/7520-00-NSH-0062.

Product/NSN: Stamp, Rubber/7520-00-NSH-0063.

Product/NSN: Stamp, Rubber/7520-00-NSH-0064.

Product/NSN: Stamp, Rubber/7520-00-NSH-0065.

Product/NSN: Stamp, Rubber/7520-00-NSH-0066.

Product/NSN: Stamp, Rubber/7520-00-NSH-0067.

Product/NSN: Stamp, Rubber/7520-00-NSH-0068.

Product/NSN: Stamp, Rubber/7520-00-NSH-0069.

Product/NSN: Stamp, Rubber/7520-00-NSH-0070.

Product/NSN: Stamp, Rubber/7520-00-NSH-0071.

Product/NSN: Stamp, Rubber/7520-00-NSH-0072.

Product/NSN: Stamp, Rubber/7520-00-NSH-0073.

Product/NSN: Stamp, Rubber/7520-00-NSH-0074.

Product/NSN: Stamp, Rubber/7520-00-NSH-0075.

Product/NSN: Stamp, Rubber/7520-00-NSH-0076.

Product/NSN: Stamp, Rubber/7520-00-NSH-0077.

Product/NSN: Stamp, Rubber/7520-00-NSH-0078.

Product/NSN: Stamp, Rubber/7520-00-NSH-0079.

Product/NSN: Stamp, Rubber/7520-00-NSH-0080.

Product/NSN: Stamp, Rubber/7520-00-NSH-0081.

Product/NSN: Stamp, Rubber/7520-00-NSH-0082.

NPA: PRIDE Industries, Roseville, California.

Contract Activity: Travis Air Force Base, California.

Services

Service Type/Location: Janitorial/Custodial/West LA VA Community Base Clinic, Los Angeles, California.

NPA: Job Options, Inc., San Diego, California.

Contract Activity: Department of Veterans Affairs.

Sheryl D. Kennerly,
Director, Information Management.

[FR Doc. 02-6286 Filed 3-14-02; 8:45 am]

BILLING CODE 6353-01-P